DEPARTMENT OF THE TREASURY

Office of Foreign Assets Control

Designation of Three Individuals Pursuant to Executive Order 13573 of May 18, 2011, “Blocking Property of Senior Officials of the Government of Syria”

AGENCY: Office of Foreign Assets Control, Treasury.

ACTION: Notice.

SUMMARY: The Treasury Department's Office of Foreign Assets Control (“OFAC”) is publishing the names of 3 individuals whose property and interests in property are blocked pursuant to Executive Order 13573 of May 18, 2011, “Blocking Property of Senior Officials of the Government of Syria.”

DATES: The designation by the Director of OFAC of the 3 individuals identified in this notice, pursuant to Executive Order 13573, is effective on March 30, 2012.

FOR FURTHER INFORMATION CONTACT: Assistant Director, Compliance Outreach & Implementation, Office of Foreign Assets Control, Department of the Treasury, 1500 Pennsylvania Avenue NW (Treasury Annex), Washington, DC 20220, Tel.: 202-622-2490.

SUPPLEMENTARY INFORMATION:

Electronic and Facsimile Availability

This document and additional information concerning OFAC are available from OFAC's Web site (www.treas.gov/ofac) or via facsimile through a 24-hour fax-on-demand service, Tel.: 202-622-0077.

Background

On May 18, 2011, the President issued Executive Order 13573, “Blocking Property of Senior Officials of the Government of Syria,” (the “Order”) pursuant to, inter alia, the International Emergency Economic Powers Act (50 U.S.C. 1701-06). In the Order, the President took additional steps with respect to the national emergency declared in Executive Order 13338 of May 11, 2004, which was expanded in scope in Executive Order 13572 of April 29, 2011.

Section 1 of the Order blocks, with certain exceptions, all property and interests in property that are in the United States, that come within the United States, or that are or come within the possession or control of any United States person, of persons listed in the Annex to the Order and of persons determined by the Secretary of the Treasury, in consultation with the Secretary of State: (1) To be a senior official of the Government of Syria; (2) to be an agency or instrumentality of the Government of Syria, or owned or controlled, directly or indirectly, by the Government of Syria or by an official or officials of the Government of Syria; (3) to have materially assisted, sponsored, or provided financial, material, or technological support for, or goods or services in support of, any person whose property an interests in property are blocked pursuant to this order; or (4) to be owned or controlled by, or to have acted or purported to act for or on behalf of directly or indirectly, any person whose property and interest are blocked pursuant to this order.

On March 30, 2012, the Director of OFAC, in consultation with the Department of State, designated, pursuant to one or more of the criteria set forth in subsection 1(b) of the Order, 3 individuals whose property and interests in property are blocked pursuant to Executive Order 13573.

The listings for those individuals on OFAC's list of Specially Designated Nationals and Blocked Persons appear as follows:

Individuals

1. ADANOV, Munir (a.k.a. ADANOF, Munir; a.k.a. ADNUF, Munir); DOB 1951; Deputy Chief of General Staff of the Syrian Army; Lieutenant General (individual) [SYRIA].

2. RAJIHA, Dawood (a.k.a. RAJHA, Daood; a.k.a. RAJHA, Davoud; a.k.a. RAJHA, Dawood; a.k.a. RAJHA, Dawoud; a.k.a. RAJIHA, Dawood Abdukllah; a.k.a. RAJIHAH, Dawud); DOB 1947; POB Damascus, Syria; Minister of Defense; General (individual) [SYRIA].

3. SHALISH, Zuhayr (a.k.a. AL-HEMMEH, Thu; a.k.a. AL-SHALISH, Dhu Al-Himma; a.k.a. SHALEESH, Dhu Himma; a.k.a. SHALEESH, Thu Al Hima; a.k.a. SHALISH, Zuhilma; a.k.a. SHALISH, Dhu Al Himma; a.k.a. SHALISH, Dhuil Himma), Damascus, Syria; DOB circa 1956; POB Al-Ladhiqiyah, Syria; nationality Syria; Brigadier General; Major General (individual) [IRAQ2] [SYRIA].

Dated: March 30, 2012.
Adam Szubin,
Director, Office of Foreign Assets Control.

[FR Doc. 2012-8231 Filed 4-4-12; 8:45 am]

BILLING CODE 4810-AL-P